DEPARTMENT OF JUSTICE

Antitrust Division

Notice Pursuant to the National Cooperative Research and Production Act of 1993—International Serum Industry Association

Notice is hereby given that, on February 20, 2007, pursuant to Section 6(a) of the National Cooperative Research and Production Act of 1993, 15 U.S.C. 4301 et seq. (“the Act”), International Serum Industry Association (“ISIA”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to Section 6(b) of the Act, the name and principal place of business of the standards development organization is: International Serum Industry Association, McHenry, MD. The nature and scope of ISIA's standards development activities are: to bring together, as members of the corporation, companies worldwide that are involved in the collection, sale, distribution, and processing of serum, and related companies. Serum is used in connection with research, diagnostic testing, and the development, sale and distribution of life sciences and biopharmaceutical products. The corporation's purpose is to enhance the understanding, safety, use and general knowledge of serum and serum related products by adopting, promoting and encouraging policies by which its members will: (1) Establish common nomenclature and testing standards for use within the serum industry; (2) work together to address common regulatory issues (e.g. import/export); (3) address common concerns about health related issues; (4) develop industry quality standards for product and company performance; (5) develop a market wide understanding of sourcing and traceability and policies to standardize business practices; (6) develop a proactive industry, regulatory and world interface to educate, inform and advocate as appropriate, acting as a spokesperson for the international serum industry in North America and other parts of the world on government and public policy issues, especially those impacting worldwide trade; (7) develop and implement standards of compliance to ensure that the industry is seen by all constituencies as operating at a high level of professional ethics; and (8) conduct such other activities, and adopt such other policies and practices, which are furtherance of the general objective of promoting uniform standards and reliability in the serum industry.

Patricia A. Brink,
Deputy Director of Operations, Antitrust Division.

[FR Doc. 07-1723 Filed 4-6-07; 8:45 am]

BILLING CODE 4410-11-M